DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Advanced Education Nursing Traineeship (AENT) Program Application

OMB No. 0915-xxxx—NEW

Abstract: The Health Resources and Services Administration (HRSA) provides advanced education nursing training grants to educational institutions to increase the numbers of advanced education nurses through the AENT Program. The AENT Program is governed by Title VIII, Section 811(a)(2) of the Public Health Service Act, (42 U.S.C. 296j(a)(2)). This new request includes the Project Abstract, Program Narrative, Attachments and Tables. The proposed AENT Tables will include data on the distribution of graduates from the organization who are working in rural, underserved, or public health settings, as well as the distribution of graduates who received traineeship support and are working in rural, underserved, or public health settings; and the number of projected students to receive traineeship support by their enrollment status (full-time or part-time), the degree program (master's, post-nursing master's certificate or doctoral) and the specialty they are enrolled in (nurse practitioner or nurse midwifery) by budget year one and by budget year two.

Need and Proposed Use of the Information: The Project Abstract is often distributed to provide information to the public and Congress. HRSA will use this information gathered from the tables in determining the amount of traineeship support to be awarded per student, per institution, and to succinctly capture data for the number of projected students for determining eligibility for Special Consideration and Statutory Funding Preference.

Likely Respondents: Eligible applicants are schools of nursing, nursing centers, academic health centers, state or local governments, and other public or private nonprofit entities determined appropriate by the Secretary that submit an application and are accredited for the provision of primary care nurse practitioner and nurse midwifery programs by a national nurse education accrediting agency recognized by the Secretary of the U.S. Department of Education. The school must be located in the 50 states, the District of Columbia, Guam, the Commonwealth of Puerto Rico, the Northern Mariana Islands, American Samoa, the U.S. Virgin Islands, the Federated States of Micronesia, the Republic of the Marshall Islands, or the Republic of Palau.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Type of respondent | Form name | Number of respondents | Number responses per respondent | Average burden per response (in hours) | Total hour burden
Grantee | AENT application and attachments | 70 | 1 | 49.2 | 3444
Grantee | Table 1a: Rural, Underserved, or Public health Practice Settings: Graduate Data | 70 | 1 | 3.19 | 223
Grantee | Table 1b: Rural, Underserved, or Public health Practice Settings: Graduates Supported Data | 70 | 1 | 3.19 | 223
Grantee | Table 2a: Number of Projected Master Degree and Post Nursing Master's Certificate Student to Receive Traineeship Support by Role (budget year 1 and budget year 2) | 70 | 1 | 3.1 | 217
Grantee | Table 2b: Number of Projected Doctoral (PhD and/or DNP) Degree Nursing Students to Receive Traineeship Support by Role (budget year 1 and budget year 2) | 70 | 1 | 3.1 | 217
Total |  | 70 |  |  | 4324

Dated: September 26, 2013.
Bahar Niakan,
Director, Division of Policy and Information Coordination.

[FR Doc. 2013-24308 Filed 10-2-13; 8:45 am]

BILLING CODE 4165-15-P